COMMISSION ON CIVIL RIGHTS

Notice of Public Meeting of the Iowa Advisory Committee to the U.S. Commission on Civil Rights

AGENCY: U.S. Commission on Civil Rights.

ACTION: Announcement of public meeting.

SUMMARY: Notice is hereby given, pursuant to the provisions of the rules and regulations of the U.S. Commission on Civil Rights (Commission) and the Federal Advisory Committee Act, that the Iowa Advisory Committee (Committee) to the U.S. Commission on Civil Rights will hold public meeting via Zoom on Thursday, March 13, 2025 from 3:00 p.m.-4:00 p.m. Central Time. The purpose of the meeting is for the Committee to vote on the report.

DATES: Thursday, March 13, 2025, from 3:00 p.m.-4:00 p.m. Central Time.

ADDRESSES: The meetings will be held via Zoom: https://www.zoomgov.com/webinar/register/WN_8PuYIzHyRhaU36uk5UjPrA.

March 13th Business Meeting—Join by Phone (Audio Only) 1-833-435-1820 USA Toll Free: Meeting ID: 161 177 8992.

FOR FURTHER INFORMATION CONTACT: Ana Fortes, Designated Federal Officer, at afortes@usccr.gov or (202) 681-0857.

SUPPLEMENTARY INFORMATION: This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email Corrine Sanders, Support Specialist, at csanders@usccr.gov at least 10 business days prior to the meeting.

Members of the public are entitled to submit written comments; the comments must be received in the regional office within 30 days following the meeting. Written comments may be emailed to Ana Fortes at afortes@usccr.gov. Persons who desire additional information may contact the Regional Programs Coordination Unit at (312) 353-8311.

Records generated from this meeting may be inspected and reproduced at the Regional Programs Coordination Unit Office, as they become available, both before and after the meeting. Records of the meetings will be available via www.facadatabase.gov under the Commission on Civil Rights, Iowa Advisory Committee link. Persons interested in the work of this Committee are directed to the Commission's website, http://www.usccr.gov, or may contact the Regional Programs Coordination Unit at afortes@usccr.gov.

Agenda

I. Welcome

II. Review and Vote on Final Report

III. Public Comment

IV. Adjournment

Exceptional Circumstance: Pursuant to 41 CFR 102-3.150, the notice for this meeting is given less than 15 calendar days prior to the meeting because of the exceptional circumstance of the upcoming expiration of the current Committee appointment term and the resulting timeline under which the Committee must complete its next and final project.

Dated: March 3, 2025.
David Mussatt,
Supervisory Chief, Regional Programs Unit.

[FR Doc. 2025-03652 Filed 3-6-25; 8:45 am]

BILLING CODE P